FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 13, 2017.

A. Federal Reserve Bank of Kansas City (Dennis Denney, Assistant Vice President) 1 Memorial Drive, Kansas City, Missouri 64198-0001:

1. Bradley J. Swan and Frank R. Swan, III, as trustees of multiple Swan family trusts, each to retain voting shares of Tuttle Bancshares, Inc. (Tuttle), and thereby indirectly retain voting shares of Sooner State Bank, both in Tuttle, Oklahoma; and the following persons to retain voting shares of Tuttle as members of the Swan Family Group as a group acting in concert: The Bradley J. Swan Revocable Trust dated 12-8-2015, and Bradley J. Swan and Cathy Swan, as co-trustees, all of Kingston, Oklahoma; the Frank Rudell Swan Jr. Family Trust and Frank R. Swan, III, as trustee, both of Harrah, Oklahoma; the Frank R. Swan, III Trust of the 1992 Swan GST Exemption Trusts and Christy L. Slama, as trustee, both of Harrah, Oklahoma; the Christy Lee Slama Trust of the 1992 Swan GST Exemption Trusts and Frank R. Swan, III, as trustee, both of Harrah, Oklahoma; the Ashley Diane Swan Trust of the 1992 GST Exemption Trust, and Christy L. Slama and Frank R. Swan, III, as co-trustees, all of Harrah, Oklahoma; the Nancy L. Cuff Revocable Living Trust uad 3-23-2017, and Nancy Lynn Cuff, as trustee, both of Oklahoma City, Oklahoma; the Frank R. Swan, III Revocable Trust dated 9-19-2001, and Frank R. Swan, III and Mysti D. Swan, as co-trustees, all of Harrah, Oklahoma; the Christy L. Slama Revocable Trust dated 2-28-2003, and Steven Slama and Christy L. Slama, as co-trustees, all of Harrah, Oklahoma; the Ashley Diane Swan 2016 Estate Trust, and Christy L. Slama, as trustee, both of Harrah, Oklahoma; Bradley J. Swan, II, Harrah, Oklahoma; and the Esther Martin Swan QTIP Trust, and Gregg L. Vandaveer, as trustee, both of Oklahoma City, Oklahoma.

Board of Governors of the Federal Reserve System, August 24, 2017.
Yao-Chin Chao,
Assistant Secretary of the Board.

[FR Doc. 2017-18318 Filed 8-28-17; 8:45 am]

BILLING CODE 6210-01-P